AGENCY FOR INTERNATIONAL DEVELOPMENT

Bureau for Democracy, Conflict and Humanitarian Assistance Office of Food for Peace Announcement of Draft Request for Applications for Title II Non-Emergency Food Aid Programs;

Notice

Pursuant to the Food for Peace Act of 2008, notice is hereby given that the Draft Request for Applications for Title II Non-Emergency Food Aid Programs will be available to interested parties for general viewing.

For individuals who wish to review, the Draft Request for Applications for Title II Non-Emergency Food Aid Programs will be available for thirty days via the Food for Peace Web site: http://www.usaid.gov/our_work/humanitarian_assistance/ffp/progpolicy.html on or about August 23, 2010. Interested parties can also receive a copy of the Draft Request for Applications for Title II Non-Emergency Food Aid Programs by contacting the Office of Food for Peace, U.S. Agency for International Development, RRB 7.06-152, 1300 Pennsylvania Avenue, NW., Washington, DC 20523-7600.

Juli Majernik,
Grants Manager, Policy and Technical Division, Office of Food for Peace, Bureau for Democracy, Conflict and Humanitarian Assistance.

[FR Doc. 2010-20874 Filed 8-20-10; 8:45 am]

BILLING CODE P